NUCLEAR REGULATORY COMMISSION

Agency Information Collection Activities: Proposed Collection; Comment Request

AGENCY: U.S. Nuclear Regulatory Commission (NRC).

ACTION: Notice of pending NRC action to submit an information collection request to OMB and solicitation of public comment.

SUMMARY: The NRC is preparing a submittal to OMB for review of continued approval of information collections under the provisions of the Paperwork Reduction Act of 1995 (44 U.S.C. Chapter 35).

Information pertaining to the requirement to be submitted:

1. The title of the information collection: 10 CFR Part 26, “Fitness for Duty Program.”

2. Current OMB approval number: 3150-0146.

3. How often the collection is required: On occasion.

4. Who is required or asked to report: All licensees authorized to construct or operate a nuclear power reactor; all licensees authorized to use, possess, or transport Category 1 nuclear material; and contractors/vendors who have developed a fitness-for-duty program that is formally reviewed and approved by a licensee, which meets the requirements of part 26.

5. The number of annual respondents: 69.

6. The number of hours needed annually to complete the requirement or request: 61,143 (5,853 hours reporting [an average of 4.3 hours/response] and 55,290 hours recordkeeping [an average of 801 hours/recordkeeper]).

7. Abstract: 10 CFR Part 26, “Fitness for Duty Program,” requires licensees of nuclear power plants, contractors/vendors who have developed a fitness-for-duty program that is formally reviewed by a licensee, and licensees authorized to possess, use, or transport Category 1 nuclear material to implement fitness-for-duty programs to assure that personnel are not under the influence of any substance or mentally or physically impaired, to retain certain records associated with the management of these programs, and to provide reports concerning significant events and program performance. Compliance with these program requirements is mandatory for licensees subject to 10 CFR part 26. In addition, licensees of nuclear power plants are required to comply with security order EA-03-038, which implements work hour controls for security force personnel and requires licensees to retain certain records associated with the management of this security order.

Submit, by July 25, 2005, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

A copy of the draft supporting statement may be viewed free of charge at the NRC Public Document Room, One White Flint North, 11555 Rockville Pike, Room O-1 F21, Rockville, MD 20852. OMB clearance requests are available at the NRC worldwide Web site: http://www.nrc.gov/public-involve/doc-comment/omb/index.html. The document will be available on the NRC home page site for 60 days after the signature date of this notice.

Comments and questions about the information collection requirements may be directed to the NRC Clearance Officer, Brenda Jo. Shelton, U.S. Nuclear Regulatory Commission, T-5 F53, Washington, DC 20555-0001, by telephone at 301-415-7233, or by internet electronic mail at infocollectsnrc.gov.

Dated at Rockville, Maryland, this 18th day of May, 2005.
For the Nuclear Regulatory Commission.
Brenda Jo. Shelton,
NRC Clearance Officer, Office of Information Services.

[FR Doc. E5-2632 Filed 5-24-05; 8:45 am]

BILLING CODE 7590-01-P